DEPARTMENT OF HOUSING AND URBAN DEVELOPMENT

[Docket No. FR-4566-N-08]

Notice of Proposed Information Collection; Comment Request; Community Development Block Grant Entitlement Program

AGENCY: Office of the Assistant Secretary for Community Planning and Development, HUD.

ACTION: Notice of proposed information collection for public comments.

SUMMARY: The proposed information collection requirement for the Community Development Block Grant (CDBG) entitlement program described below will be submitted to the Office of Management and Budget (OMB) for review, as required by the Paperwork Reduction Act. The Department is soliciting public comments on the subject proposal.

DATES: Comments Due Date: September 12, 2000.

ADDRESSES: Interested persons are invited to submit comments regarding this proposal. Comments should refer to the proposal by name and/or OMB Control Number and should be sent to: Shelia Jones, Reports Liaison Officer, Department of Housing and Urban Development, 451 7th Street, SW, Room 7232, Washington, DC 20410.

FOR FURTHER INFORMATION CONTACT: Sue Miller, Acting Director, Entitlement Communities Division, (202) 708-1577 (this is not a toll-free number).

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond, including through the use of appropriate automated collection techniques or other forms of information technology, e.g., permitting electronic submission of responses.

This Notice also lists the following information:

Title of Proposal: Community Development Block Grant Entitlement Program.

OMB Control Number, if applicable: 2506.0077.

Description of the need for the information and proposed use:

Agency form numbers, if applicable: Community Development Block Grant (CDBG) Entitlement grantees are required by 24 CFR 570.506 to retain records necessary to document compliance with statutes, regulations, Executive Orders, and OMB Circulars applicable to the CDBG Entitlement Program. Also, Description of the need for the information and Entitlement grantees are required by Section 104(e) of Title I of the Housing and Community Development Act to annually submit a performance report, which is necessary for the Secretary to perform an annual review of performance required by that section of the law, as well as providing the documentation necessary to prepare the Annual Report to Congress on the CDBG program.

Entitlement grantees report on their CDBG activities in the Consolidated Annual Performance and Evaluation Report (CAPER) (which also includes performance report information for the HOME Investment Partnership, Emergency Shelter Grants [ESG], and Housing Opportunities for Persons with AIDS [HOPWA] programs as well, should the CDBG grantee also be a recipient of any funds under these programs).

The automated Integrated Disbursement and Information System (IDIS) is a key component in the production of the CAPER report. Grantees input information about their CDBG program activities into IDIS on a on-going basis throughout their program year, reducing duplication of information and inconsistent reporting. There are no standard forms required to be used in the CAPER; therefore, grantees have much flexibility with respect to its design and format.

The proposed information collection requirement includes a revision of the currently approved recordkeeping and reporting requirements for entitlement grantees in the CDBG program based on an increase in the number of eligible grantees over the past three years. The exiting approval granted under OMB Number 2506-0077 is due to expire September 30, 2000.

Although the IDIS and the CAPER can contain information on a grantee's CDBG, HOME, ESG, and HOPWA programs, this information collection requirement submitted to OMB requests approval for CDBG Entitlement Program recordkeeping and reporting requirements only.

The Department has converted all of its CDBG entitlement grantees into the IDIS and each new grantee begins using IDIS at the time it first elects to take its status as an entitlement. Also, since this Information Collection was last approved, the required Financial Summary report has been integrated into IDIS, although IDIS does not yet collect/generate all information necessary to meet all reporting requirements for the Entitlement CDBG program. As a result, the estimation shown below does not reflect a decrease in the number of reporting hours used annually, on average, by each grantee. Grantees have to review the financial data and identify any adjustments that need to be input prior to generating the Financial Summary, and some supplementary documents may have to be submitted with the CAPER to meet the CDBG reporting requirements.

Members of affected public: Entitlement grantees (metropolitan cities and urban counties) of the Community Development Block Grant program.

Estimation of the total numbers of hours needed to prepare the information collection including number of respondents, frequency of response, and hours of response: The Department estimates that each of its 1,013 grantees will annually use, on average, 125 hours to keep records (non-IDIS recordkeeping) on their CDBG activities, and 305 hours to prepare reports on activities (both IDIS-generated and non-IDIS reports).

570.506 (recordkeeping) (on-going): 1,013 × 125 hours = 126,625 hours.

570.507 (reporting) 1,103 × 305 hours = 308,965 hours

Total burden hours = 435,590.

(Quarterly and annual reports from IDIS, annual total) 1,013 × 284 = 287,692 hours.

(Non-IDIS reports, Supplemental Annual): 1,013 × 21 hours = 21,273.

Total reporting hours = 308,965.

Status of the proposed information collection: Reinstatement, with change; of a previously approved collection for which approval is near expiration and request for OMB renewal for three years. The current OMB approval expires in September 2000.

This report does not include hours spent on Consolidated Plan preparation and submission. Those hours are reported with 2606-0117.

Authority: The Paperwork Reduction Act of 1995, 44 U.S.C. Chapter 35, as amended.

Dated: July 10, 2000.
Cardell Cooper,
Assistant Secretary for Community Planning and Development

[FR Doc. 00-17821 Filed 7-13-00; 8:45 am]

BILLING CODE 4210-29-M